DEPARTMENT OF TRANSPORTATION

Federal Aviation Administration

[Docket No. FAA-2008-0713]

Notice of Interim Operating Authority Granted to Commercial Air Tour Operators Over National Parks and Tribal Lands Within or Abutting National Parks

AGENCY: Federal Aviation Administration (FAA), DOT.

ACTION: Notice.

SUMMARY: On October 25, 2002, the Federal Aviation Administration (FAA) published the final rule for Title 14, Code of Federal Regulations part 136, National Parks Air Tour Management (67 FR 65662). The rule became effective on January 23, 2003. On January 27, 2005, the FAA published a notice of opportunity for commercial air tour operators granted interim operating authority (IOA) under the National Parks Air Tour Management Act of 2000 (the Act) to review and self correct annual authorizations (70 FR 3972). The results were published by operator in the Federal Register on Thursday, June 23, 2005, (70 FR 36456). The comment due date was set for 70 FR 36456 and the IOA republished in the Federal Register on Friday, October 7, 2005 by park instead of by operator (70 FR 58778). This Notice is pursuant to the review and accepting of five (5) New Entrant applications and seeks public comment regarding this matter from interested parties.

DATES: Comments must be received by the FAA by August 7, 2008.

ADDRESSES: Comments must be identified by Docket Number FAA-2008-0713 using the following method:

• Federal eRulemaking Portal: Go to http://www.regulations.gov and follow the online instructions for sending your comments electronically.

FOR FURTHER INFORMATION CONTACT: Norman R. Elrod, Air Transportation Division, 135 Air Carrier Operations Branch, AFS-250, Federal Aviation Administration, 800 Independence Avenue, SW., Washington, DC 20591; telephone (202) 493-5562; e-mail norman.elrod@faa.gov, or, Edwin D. Miller, Air Transportation Division, 135 Air Carrier Operations Branch, AFS-250, Federal Aviation Administration, 800 Independence Avenue, SW., Washington, DC 20591; telephone (202) 267-8166; e-mail edwin.miller@faa.gov.

SUPPLEMENTARY INFORMATION:

Background

Provision(s) for new entrant air tour operators are specified in Section 803 of the Act under (c) Interim Operating Authority, (3) New entrant air tour operators (A), (B), & (C). The five new entrants seeking IOA are listed below:

Operator name | DBA | National park unit/Abutting tribal land | IOA
Kanab, Utah Air Service | NA | Zion NP | 120
|  | Bryce Canyon NP | 120
|  | Rainbow Bridge NM | 120
|  | Canyon Lands NP | 120
|  | Arches NP | 120
|  | Cedar Breaks NM | 120
Mauiscape Helicopters | NA | Haleakala NP | 4,140
Skycraft Air Service | NA | Volcanoes NP | 600
Wings Air | NA | Statue of Liberty NM | 1,500
Zip Aviation | NA | Statue of Liberty NM | 12,000

Discussion

The operators cited above applied for New Entrant IOA between January of 2003 and November 2005. The FAA, having evaluated the applications, is now prepared to move forward with the application process. This notice fulfills that statutory requirement that mandates the IOA granted under the Act to be published in the Federal Register for notice and opportunity for comment.

Issued in Washington, DC, on July 1, 2008.
Gary Davis,
Air Transportation Division, Acting Manager of AFS-200.

[FR Doc. E8-15441 Filed 7-7-08; 8:45 am]

BILLING CODE 4910-13-P